FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Bluesea Logistics Corporation (NVO), 327 Elizabeth Avenue, Apt. #A, Monterey Park, CA 91755-2044, Officers: Li Lin, General Manager/Sec/CFO, (Qualifying Individual), Guanghui Cui, President, Application Type: New NVO License.

Classic Car Transport, LLC dba Classic Car Export (OFF), 1920 W. 143rd Street, #190, Leawood, KS 66224, Officers: Joseph J. Weinrich, Manager, (Qualifying Individual), Steven A. Sharpe, Member, Application Type: New OFF License.

Clover Internacional Inc. dba Clover Marine (OFF), 15700 International Plaza Drive, #100, Houston, TX 77032, Officers: Juan C. Castillo, Special Secretary, (Qualifying Individual), Luis A. Rincon, President/Secretary, Application Type: Name Change.

Didi Logistics Inc (NVO & OFF), 2380 SW 80th Court, Miami, FL 33155, Officers: Diana V. Escobar, President, (Qualifying Individual), Alicia H. Escobar, Vice President, Application Type: New NVO & OFF License.

Equipsa N.V.O.C.C. Inc. (NVO), 2105 NW 102 Avenue, Miami, FL 33172, Officers: Isabel C. Montejo, Vice President Operations, (Qualifying Individual), Arthur Gelfand, President, Application Type: QI Change.

Gwinnett Shipping & Receiving, LLC dba Korea Intermodal USA (NVO), 1418 Beaver Ruin Road, Norcross, GA 30093, Officers: Won A. An, Member, (Qualifying Individual), Joon H. An, Member, Application Type: New NVO. License.

HPK Logistics (USA) Inc dba Trade Wind International (NVO & OFF), 727 Brea Canyon Road, #14, Walnut, CA 91789, Officers: Tigi Cai, Vice President/Treasurer, (Qualifying Individual), Jian Sun, President, Application Type: Add OFF Service.

Infinit Ideas International, Inc. dba Global Intertrans (NVO), 17890 Castleton, #251, City of Industry, CA 91748, Officers: Catherine Tsai, President/Treasurer, Qingfeng aka Daniel Wang, Vice President/Secretary, (Qualifying Individuals), Application Type: Business Structure Change.

Rapid Express 1 Corporation (NVO & OFF), 2258 NW 94 Avenue, Doral, FL 33172, Officers: Rene Parajon, Vice President, (Qualifying Individual), Mirta Parajon, President/Secretary, Application Type: New NVO & OFF License.

Red Arrow Consulting, Inc. dba Red Arrow Logistics (NVO & OFF), 22605 SE 56th Street, #270, Issaquah, WA 98029, Officers: Lorraine E. Lasater, CEO/President/Treasurer, (Qualifying Individual), Lindsey Peter, COO/Vice President, Application Type: QI Change.

Starwin Logistics Inc. (NVO), 160-51 Rockaway Blvd., #200, Jamaica, NY 11434, Officers: Junxian (Jessie) Wang, President/Chairperson/Sec/Treasurer, (Qualifying Individual), Hao Liang, Shareholder, Application Type: New NVO License.

Suddath Global Logistics, LLC dba Suddath Global Logistics, (NVO & OFF), 815 South Main Street, Jacksonville, FL 32207, Officers: Brett J. Macker, Executive Vice President, (Qualifying Individual), Michael Kranisky, President/General Manager, Application Type: Lic. Transfer/QI Chg./Add NVO Service.

Dated: December 2, 2011.
Karen V. Gregory,
Secretary.

[FR Doc. 2011-31437 Filed 12-6-11; 8:45 am]

BILLING CODE 6730-01-P